DEPARTMENT OF THE INTERIOR

Bureau of Reclamation

Quarterly Status Report of Water Service, Repayment, and Other Water-Related Contract Negotiations

AGENCY: Bureau of Reclamation, Interior.

ACTION: Notice.

SUMMARY: Notice is hereby given of proposed contractual actions that are new modified, discontinued, or completed since the last publication of this notice on April 25, 2002. The January 31, 2002, notice should be used as a reference point to identify changes. This notice is one of a variety of means used to inform the public about proposed contractual actions for capital recovery and management of project resources and facilities. Additional Bureau of Reclamation (Reclamation) announcements of individual contract actions may be published in the Federal Register and in newspapers of general circulation in the areas determined by Reclamation to be affected by the proposed action. Announcements may be in the form of news releases, legal notices, official letters, memorandums, or other forms of written material. Meetings, workshops, and/or hearings may also be used, as appropriate, to provide local publicity. The public participation procedures do not apply to proposed contracts for sale of surplus or interim irrigation water for a term of 1 year or less. Either of the contracting parties may invite the public to observe contract proceedings. All public participation procedures will be coordinated with those involved in complying with the National Environmental Policy Act.

ADDRESSES: The identity of the approving officer and other information pertaining to a specific contract proposal may be obtained by calling or writing the appropriate regional office at the address and telephone number given for each region in the supplementary information.

FOR FURTHER INFORMATION CONTACT: Sandra L. Simons, Manager, Water Contracts and Repayment Office, Bureau of Reclamation, PO Box 25007, Denver, Colorado 80225-0007; telephone 303-445-2902.

SUPPLEMENTARY INFORMATION: Pursuant to section 226 of the Reclamation Reform Act of 1982 (96 Stat. 1273) and 43 CFR 426.20 of the rules and regulations published in 52 FR 11954, April 13, 1987, Reclamation will publish notice of the proposed or amendatory contract actions for any contract for the delivery of project water for authorized uses in newspapers of general circulation in the affected area at least 60 days prior to contract execution. Pursuant to the “Final Revised Public Participation Procedures” for water resource-related contract negotiations, published in 47 FR 7763, February 22, 1982, a tabulation is provided of all proposed contractual actions in each of the five Reclamation regions. Each proposed action is, or is expected to be, in some stage of the contract negotiation process in 2002. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act (80 Stat. 383), as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to: (i) The significance of the modification, and (ii) the degree of public interest which has been expressed over the course of the negotiations. As a minimum, the regional director shall furnish revised contracts to all parties who requested the contract in response to the initial public notice.

Acronym Definitions Used Herein

BON—Basis of Negotiation

BCP—Boulder Canyon Project

Reclamation—Bureau of Reclamation

CAP—Central Arizona Project

CUP—Central Utah Project

CVP—Central Valley Project

CRSP—Colorado River Storage Project

D&MC—Drainage and Minor Construction

FR—Federal Register

IDD—Irrigation and Drainage District

ID—Irrigation District

M&I—Municipal and Industrial

NEPA—National Environmental Policy Act

O&M—Operation and Maintenance

P-SMBP—Pick-Sloan Missouri Basin Program

PPR—Present Perfected Right

RRA—Reclamation Reform Act

R&B—Rehabilitation and Betterment

SOD—Safety of Dams

SRPA—Small Reclamation Projects Act

WCUA—Water Conservation and Utilization Act

WD—Water District

Pacific Northwest Region: Bureau of Reclamation, 1150 North Curtis Road, Suite 100, Boise, Idaho 83706-1234, telephone 208-378-5223.

New Contract Action

25. Twenty-three irrigation districts of the Arrowrock Division, Boise Project, Idaho: Repayment agreements with districts with spaceholder contracts for repayment, per legislation, of reimbursable share of costs to rehabilitate Arrowrock Dam Outlet Gates under the O&M program.

Modified Contract Action

4. Pioneer Ditch Company, Boise Project, Idaho; Clark and Edwards Canal and Irrigation Company, Enterprise Canal Company, Ltd., Fremont-Madison ID, Lenroot Canal Company, Liberty Park Canal Company, Poplar ID, all in the Minidoka Project, Idaho; and Juniper Flat District Improvement Company, Wapinitia Project, Oregon: Amendatory repayment and water service contracts; purpose is to conform to the RRA (Public Law 97-293).

Completed Contract Action

4. Pioneer Ditch Company, Boise Project, Idaho; Clark and Edwards Canal and Irrigation Company, Enterprise Canal Company, Ltd., Fremont-Madison ID, Lenroot Canal Company, Liberty Park Canal Company, Parsons Ditch Company, Poplar ID, Wearyrick Ditch Company, all in the Minidoka Project, Idaho; Juniper Flat District Improvement Company, Wapinitia Project, Oregon; and Gem, Ridgeview, and Owyhee IDs, Owyhee Project, Oregon: Amendatory repayment and water service contracts; purpose is to conform to the RRA (Public Law 97-293). Contracts with Parsons and Wearyrick Ditch Companies and Gem, Ridgeview, and Owyhee IDs were executed in April 2002.

Mid-Pacific Region: Bureau of Reclamation, 2800 Cottage Way, Sacramento, California 95825-1898, telephone 916-978-5250.

New Contract Action

40. Placer County Water Agency, CVP, California: Amendment of existing water service contract to allow for additional points of diversion and adjustment to Project water quantities. The amended contract will conform to current Reclamation law.

Modified Contract Action

39. Sacramento River Settlement Contracts, CVP, California: Up to 145 contracts and one contract with Colusa Drain Mutual Water Company will be renewed; water quantities for these contracts total 2.2M acre-feet. Colusa Drain Mutual Water Company will be renewed for a period of 25 years, and the rest will be renewed for a period of 40 years. These contracts will reflect an agreement to settle the dispute over water rights' claims on the Sacramento River.

Discontinued Contract Action

24. Resource Renewal Institute, CVP, California: Proposed water purchase agreement with Resource Renewal Institute for the permanent purchase of water rights on Butte Creek for instream flow purposes.

Lower Colorado Region: Bureau of Reclamation, PO Box 61470 (Nevada Highway and Park Street), Boulder City, Nevada 89006-1470, telephone 702-293-8536.

New Contract Action

48. Harquahala Valley ID, CAP, Arizona: The District has requested that Reclamation transfer title to the District's CAP Distribution System and assign to the District, permanent easements acquired by the United States. Title transfer of the District's CAP distribution system is authorized by Public Law 101-628 and contract No. 3-07-30-W0289 between the District and Reclamation, dated December 8, 1992.

Completed Contract Actions

34. Gila River Farms, Arizona: Amendment of SRPA contract to restructure the repayment schedule.

38. Arizona State Land Department, CAP, Arizona: Proposed assignment of 1,000 acre-feet of the Department's CAP M&I water entitlement to the City of Peoria.

Upper Colorado Region: Bureau of Reclamation, 125 South State Street, Room 6107, Salt Lake City, Utah 84138-1102, telephone 801-524-4419.

New Contract Action

21. Uintah Water Conservancy District, Jensen Unit, CUP, Utah: Contract to allow the District to use up to approximately 2,500 acre-feet of project water for irrigation and M&I uses.

Great Plains Region: Bureau of Reclamation, PO Box 36900, Federal Building, 316 North 26th Street, Billings, Montana 59107-6900, telephone 406-247-7730.

Modified Contract Actions

12. City of Cheyenne, Kendrick Project, Wyoming: Negotiation of a long-term contract for storage space. Contract for up to 10,000 acre-feet of storage space for replacement water on a yearly basis in Seminoe Reservoir. A temporary contract has been issued pending negotiation of the long-term contract.

30. Milk River Project, Montana: City of Harlem water service contract expires December of 2002. Initiating negotiation for renewal of a water service contract for an annual supply of raw water for domestic use from the Milk River not to exceed 500 acre-feet. An interim contract may be issued to continue delivery of water until the necessary actions can be completed to renew the long-term contract. A draft contract is available for review and public comment. Comments are due by August 15, 2002.

42. Helena Valley Unit, P-SMBP, Montana: The long-term water service contract with the City of Helena, Montana, expires December 31, 2004. Initiating negotiations for contract renewal for an annual supply of raw water for domestic and municipal and industrial use from Helena Valley Reservoir not to exceed 5,680 acre-feet of water annually.

Completed Contract Action

11. P-SMBP, Kansas: Existing water service contracts with the Kirwin and Webster IDs in the Solomon River Basin in Kansas were extended for a period of 4 years in accordance with Public Law 104-326. These contracts will be renewed prior to their expiration on December 31, 2003 (Kirwin ID), and December 31, 2005 (Webster ID). Reclamation has prepared a draft environmental assessment (DEA) for the conversion of long-term water service contracts to repayment contracts. On December 10, 2001, the DEA became available for a 30-day review and comment period. Public comments were accepted through January 9, 2002. Written comments were directed to Jill Manring, Team Leader, Bureau of Reclamation, PO Box 1607, Grand Island, NE 68802. Renewal of the existing water service contracts with the Kirwin and Webster IDs in the Solomon River Basin in Kansas was completed on June 20, 2002, with the contracts being converted to long-term repayment contracts. These contracts were renewed prior to their expiration. The draft environmental assessment was issued in December 2001. The final environmental assessment was revised to incorporate the environmental commitments, public comments, and responses, additional information, and corrections and/or editorial changes. The Finding of No Significant Impact for the Conversion of Long-Term Water Service Contracts to Repayment Contracts was executed on June 14, 2002.

Dated: July 10, 2002.
Sandra L. Simons,
Acting Deputy Director, Office of Policy.

[FR Doc. 02-19628 Filed 8-2-02; 8:45 am]

BILLING CODE 4310-MN-P